DEPARTMENT OF DEFENSE

GENERAL SERVICES ADMINISTRATION

NATIONAL AERONAUTICS AND SPACE ADMINISTRATION

48 CFR Parts 1, 19, 22, 42, 52, and 53

[FAC 97-22; Item VI]

Federal Acquisition Regulation; Technical Amendments

AGENCIES: Department of Defense (DoD), General Services Administration (GSA), and National Aeronautics and Space Administration (NASA).

ACTION: Final rule.

SUMMARY: This document makes amendments to the Federal Acquisition Regulation in order to update references and make editorial changes.

DATES: Effective Date: January 10, 2001.

FOR FURTHER INFORMATION CONTACT: The FAR Secretariat, Room 4035, GS Building, Washington, DC 20405, (202) 501-4755.

List of Subjects in 48 CFR parts 1, 19, 22, 42, 52, and 53

Government procurement.

Dated: December 22, 2000.
Al Matera,
Acting Director, Federal Acquisition Policy Division.

Therefore, DoD, GSA, and NASA amend 48 CFR parts 1, 19, 22, 42, 52, and 53 as set forth below:

1. The authority citation for 48 CFR parts 1, 19, 22, 42, 52, and 53 continues to read as follows:

Authority: 40 U.S.C. 486(c); 10 U.S.C. chapter 137; and 42 U.S.C. 2473(c).

PART 1—FEDERAL ACQUISITION REGULATIONS SYSTEM

1.106 [Amended]

2. Amend section 1.106 in the table following the introductory paragraph at entry 52.215-19 by removing the OMB Control Number “9000-0015” and adding “9000-0115” in its place.

PART 19—SMALL BUSINESS PROGRAMS

3. Amend section 19.812 by revising paragraph (a) to read as follows:

19.812 Contract administration.

(a) The contracting officer shall assign contract administration functions, as required, based on the location of the 8(a) contractor (see Federal Directory of Contract Administration Services Components (available via the Internet at http://www.dcma.mil/casbook/casbook.htm)).

* * * * *

PART 22—APPLICATION OF LABOR LAWS TO GOVERNMENT ACQUISITIONS

4. Amend section 22.403-4 as follows:

a. Redesignate paragraphs “(a)”, “(b)”, “(c)”, “(d)”, and “(e)” as “(b)(1)”, “(b)(2)”, “(b)(3)”, “(b)(4)”, and “(b)(5)”, respectively;

b. Designate the introductory paragraph as paragraph (a), and amend it by removing “The Department of Labor regulations include—”;

c. Add paragraph (b) introductory text;

d. In newly designated paragraph (b)(5), remove the last sentence; and

e. Add a new paragraph (c) to read as follows:

22.403-4 Department of Labor regulations.

* * * * *

(b) The Department of Labor regulations include—

* * * * *

(c) Refer all questions relating to the application and interpretation of wage determinations (including the classifications therein) and the interpretation of the Department of Labor regulations in this subsection to the Administrator, Wage and Hour Division.

PART 42—CONTRACT ADMINISTRATION AND AUDIT SERVICES

5. Amend section 42.201 by revising paragraph (b) to read as follows:

42.201 Contract administration responsibilities.

* * * * *

(b) The Defense Contract Management Agency and other agencies offer a wide variety of contract administration and support services.

6. Revise section 42.203 to read as follows:

42.203 Contract administration services directory.

The Defense Contract Management Agency (DCMA) maintains and distributes the Federal Directory of Contract Administration Services Components. The directory lists the names and telephone numbers of those DCMA and other agency offices that offer contract administration services within designated geographic areas and at specified contractor plants. Federal agencies may obtain a free copy of the directory on disk by writing to—Defense Contract Management Agency, ATTN: DCMA-FBP, 8725 John J. Kingman Road, Fort Belvoir, VA 22060-6221, or access it on the Internet at http://www.dcma.mil/casbook/casbook.htm.

PART 52—SOLICITATION PROVISIONS AND CONTRACT CLAUSES

52.247-51 [Amended]

7. Amend section 52.247-51 in the provision heading by removing “(FEB 1995)” and adding “(JAN 2001)” in its place; in the first sentence of paragraph (c)(1) by removing “F.o.b. port of loading with inspection and acceptance at origin.”; and in the third column of the table following paragraph (d), add a comma after “i.e.”.

PART 53—FORMS

53.215-1 [Amended]

8. Amend section 53.215-1 by removing from paragraph (a) “15.509(b)” and adding “15.509” in its place; and by removing from paragraphs (e) and (f) “15.509(a)” and adding “15.509” in their place.

[FR Doc. 01-16 Filed 1-9-01; 8:45 am]

BILLING CODE 6820-EP-P